DEPARTMENT OF STATE

[Public Notice: 7874]

60-Day Notice of Proposed Information Collection: Form DS-4213, PEPFAR Program Expenditures; OMB Control Number 1405-XXXX

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: PEPFAR Program Expenditures.

• OMB Control Number: None.

• Type of Request: New Collection.

• Originating Office: Office of the Global AIDS Coordinator (S/GAC).

• Form Number: DS-4213.

• Respondents: Recipients of US government funds appropriated to carry out the President's Emergency Plan for AIDS Relief (PEPFAR).

• Estimated Number of Respondents: 1,000.

• Estimated Number of Responses: 1,000.

• Average Hours per Response: 12.

• Total Estimated Burden: 12,000 hours.

• Frequency: Annually.

• Obligation to Respond: Mandatory.

DATES: The Department will accept comments from the public up to 60 days from May 9, 2012.

ADDRESSES: You may submit comments by any of the following methods:

• Web: Persons with access to the Internet may view and comment on this notice by going to the Federal regulations Web site at www.regulations.gov. You can search for the document by: Selecting “Notice” under Document Type, entering the Public Notice number as the “Keyword or ID”, checking the “Open for Comment” box, and then click “Search”. If necessary, use the “Narrow by Agency” option on the Results page.

• Email: duboisa@state.gov.

• Mail (paper, or CD submissions): Dr. Amy DuBois, Office of the US Global AIDS Coordinator (S/GAC), US Department of State, SA-29, 2nd Floor, Washington, DC 20522-2920.

• Fax: 202-663-2979.

• Hand Delivery or Courier: Dr. Amy DuBois, Office of the US Global AIDS Coordinator, 2100 Pennsylvania Ave. NW.; Suite 200, Washington, DC 20037.

You must include the DS form number (if applicable), information collection title, and OMB control number in any correspondence.

FOR FURTHER INFORMATION CONTACT: Direct requests for additional information regarding the collection listed in this notice, including requests for copies of the proposed information collection and supporting documents, to Dr. Amy DuBois, Office of the US Global AIDS Coordinator, who may be reached on 202-203-7483 or at duboisa@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The US President's Emergency Plan for AIDS Relief (PEPFAR) was established through enactment of the United States Leadership Against HIV/AIDS, Tuberculosis, and Malaria Act of 2003 (Pub. L. 108-25), as amended by the Tom Lantos and Henry J. Hyde United States Global Leadership Against HIV/AIDS, Tuberculosis, and Malaria Reauthorization Act of 2008 (Pub. L. 110-293) (HIV/AIDS Leadership Act) to support the global response to HIV/AIDS. In order to improve program monitoring, the Finance and Economics Work Group under PEPFAR proposes to add reporting of expenditures by program area to the current routine reporting of program results for the annual report. Data will be collected from implementing partners in countries with PEPFAR programs using a standard tool (DS-4213) via an electronic interface. These data will then be analyzed to produce mean and range in expenditures by partner per result/achievement for all PEPFAR program areas. These analyses then feed into partner and program reviews at the country level for monitoring and evaluation on an ongoing basis. Summaries of these data provide key information about program costs under PEPFAR on a global level. Applying expenditure results will improve strategic budgeting, identification of efficient means of delivering services, accuracy in defining program targets, and will inform allocation of resources to ensure the program is accountable and using public funds for maximum impact.

Methods

Data will be collected in a standard electronic template available to all partners receiving funds under PEPFAR.

To minimize both reporting burden and investment costs into information technologies, a new module capturing expenditure data will be added to an already functional system. This approach will minimize start up costs for the technology and ensure data collection processes are as efficient as possible.

Dated: May 3, 2012.
Julia Martin,
Chief Operating Officer, Office of the U.S. Global AIDS Coordinator, Department of State.

[FR Doc. 2012-11190 Filed 5-8-12; 8:45 am]

BILLING CODE 4710-10-P